DEPARTMENT OF ENERGY

Federal Energy Regulatory Commission

Combined Notice of Filings

Take notice that the Commission has received the following Natural Gas Pipeline Rate and Refund Report filings:

Filings Instituting Proceedings

Docket Numbers: RP11-2404-000.

Applicants: KO Transmission Company.

Description: KO Transmission Company submits tariff filing per 154.402: Annual Charge Adjustment Filing to be effective 10/1/2011.

Filed Date: 08/22/2011.

Accession Number: 20110822-5059.

Comment Date: 5 p.m. Eastern Time on Tuesday, September 06, 2011.

Docket Numbers: RP11-2405-000.

Applicants: Questar Overthrust Pipeline Company.

Description: Questar Overthrust Pipeline Company submits tariff filing per 154.204: Correction to Forms of Agreement to be effective 9/23/2011.

Filed Date: 08/22/2011.

Accession Number: 20110822-5111.

Comment Date: 5 p.m. Eastern Time on Tuesday, September 06, 2011.

Docket Numbers: RP11-2406-000.

Applicants: Questar Overthrust Pipeline Company.

Description: Questar Overthrust Pipeline Company submits tariff filing per 154.204: Inactive Meters/Facilities to be effective 9/21/2011.

Filed Date: 08/22/2011.

Accession Number: 20110822-5112.

Comment Date: 5 p.m. Eastern Time on Tuesday, September 06, 2011.

Docket Numbers: RP11-2407-000.

Applicants: Questar Southern Trails Pipeline Company.

Description: Questar Southern Trails Pipeline Company submits tariff filing per 154.204: Inactive Meters/Facilities to be effective 9/21/2011.

Filed Date: 08/22/2011.

Accession Number: 20110822-5113.

Comment Date: 5 p.m. Eastern Time on Tuesday, September 06, 2011.

Docket Numbers: RP11-2408-000.

Applicants: White River Hub, LLC.

Description: White River Hub, LLC submits tariff filing per 154.204: Correction to Forms of Agreement to be effective 9/23/2011.

Filed Date: 08/22/2011.

Accession Number: 20110822-5114.

Comment Date: 5 p.m. Eastern Time on Tuesday, September 06, 2011.

Docket Numbers: RP11-2409-000.

Applicants: White River Hub, LLC.

Description: White River Hub, LLC submits tariff filing per 154.204: Inactive Meters/Facilities to be effective 9/21/2011.

Filed Date: 08/22/2011.

Accession Number: 20110822-5115.

Comment Date: 5 p.m. Eastern Time on Tuesday, September 06, 2011.

Docket Numbers: RP11-2410-000.

Applicants: Gulf States Transmission LLC.

Description: Gulf States Transmission LLC submits tariff filing per 154.402: Gulf States Transmission LLC ACA Tariff Update to be effective 10/1/2011.

Filed Date: 08/22/2011.

Accession Number: 20110822-5164.

Comment Date: 5 p.m. Eastern Time on Tuesday, September 06, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 23, 2011.
Nathaniel J. Davis, Sr.,
Deputy Secretary.

[FR Doc. 2011-22054 Filed 8-29-11; 8:45 am]

BILLING CODE 6717-01-P